ENVIRONMENTAL PROTECTION AGENCY

40 CFR Part 300

[EPA-HQ-SFUND-1990-0011; FRL-9980-63—Region 5]

National Oil and Hazardous Substances Pollution Contingency Plan; National Priorities List: Partial Deletion of the Beloit Corporation Superfund Site

AGENCY: Environmental Protection Agency.

ACTION: Proposed rule; notification of intent.

SUMMARY: The Environmental Protection Agency (EPA) Region 5 is issuing a Notice of Intent to Delete the Former Beloit Corporation Research Center Property (RCP) of the Beloit Corporation Superfund Site (Site), in Rockton, Illinois, from the National Priorities List (NPL) and requests public comments on this proposed action. This partial deletion includes all media at the 20-acre RCP. The rest of the Site remains on the NPL and is not affected by this action. The NPL, promulgated pursuant to Section 105 of the Comprehensive Environmental Response, Compensation, and Liability Act (CERCLA) of 1980, as amended, is an appendix of the National Oil and Hazardous Substances Pollution Contingency Plan (NCP). EPA and the State of Illinois, through the Illinois Environmental Protection Agency, have determined that all appropriate response actions at the RCP identified under CERCLA have been completed, other than maintenance, monitoring and five-year reviews. However, this partial deletion does not preclude future actions under CERCLA.

DATES: Comments must be received by August 15, 2018.

ADDRESSES: Submit your comments, identified by Docket ID No. EPA-HQ-SFUND-1990-0011, by mail to Randolph Cano, NPL Deletion Coordinator, U.S. Environmental Protection Agency Region 5 (SR-6J), 77 West Jackson Boulevard, Chicago, IL 60604. Comments may also be submitted electronically or through hand delivery/courier by following the detailed instructions in the ADDRESSES section of the direct final rule located in the Rules section of this Federal Register.

FOR FURTHER INFORMATION CONTACT: Randolph Cano, NPL Deletion Coordinator, U.S. Environmental Protection Agency Region 5 (SR-6J), 77 West Jackson Boulevard, Chicago, IL 60604, (312) 886-6036, email: cano.randolph@epa.gov.

SUPPLEMENTARY INFORMATION: In the “Rules and Regulations” section of today's Federal Register, we are publishing a direct final Notice of Partial Deletion for the Former Beloit Corp. Research Center Property of the Beloit Corp. Superfund Site without prior Notification of Intent for Partial Deletion because EPA views this as a noncontroversial revision and anticipates no adverse comment. We have explained our reasons for this partial deletion in the preamble to the direct final Notice of Partial Deletion, and those reasons are incorporated herein. If we receive no adverse comment(s) on this partial deletion action, we will not take further action on this Notification of Intent for Partial Deletion. If we receive adverse comment(s), we will publish a timely withdrawal of the direct final partial deletion in the Federal Register informing the public that the partial deletion will not take effect. We will then, as appropriate, address all public comments in a subsequent final Notice of Partial Deletion based on this Notification of Intent for Partial Deletion. We will not institute a second comment period on this Notification of Intent for Partial Deletion. Any parties interested in commenting must do so at this time.

For additional information, see the direct final Notice of Partial Deletion which is located in the Rules section of this Federal Register.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: June 25, 2018.
Cathy Stepp,
Regional Administrator, Region 5.

[FR Doc. 2018-15145 Filed 7-13-18; 8:45 am]

BILLING CODE 6560-50-P